DEPARTMENT OF COMMERCE

National Oceanic and Atmospheric Administration

[RTID 0648-XC241]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of its Hawaii Archipelago Fishery Ecosystem Plan (FEP) Advisory Panel (AP) to discuss and make recommendations on fishery management issues in the Western Pacific Region.

DATES: The meeting will be held August 18, 2022. For specific times and agendas, see SUPPLEMENTARY INFORMATION.

ADDRESSES: The meeting will be held in a hybrid format with in-person and remote participation (Webex) options available for the advisory panel members, and public attendance limited to web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; phone: (808) 522-8220.

SUPPLEMENTARY INFORMATION: The Hawaii Archipelago FEP AP will meet on Thursday, August 18, 2022, from 9 a.m. to 4 p.m. Hawaii Standard Time. Public Comment periods will be provided in the agenda. The order in which agenda items are addressed may change. The meeting will run as late as necessary to complete scheduled business.

Schedule and Agenda for the Hawaii Archipelago AP Meeting

Thursday, August, 2022, 9 a.m.-4 p.m. (Hawaii Standard Time)

1. Welcome and Introductions

2. Review of Last AP Meeting and Recommendations

3. Hawaii Fishery Issues Activities

A. Report on Hawaii Small-Boat Management

B. Alternatives for an Aquaculture Management Framework in the Western Pacific

C. Development of Kona Crab Status Determination Criteria

D. Report on Young Fishermen's Act

E. Discussion and Recommendations

F. Alternatives for Fishing Measures in the Northwestern Hawaiian Islands

G. Review of the NMFS Deep-set Longline Biological Opinion

H. Update on the National Seafood Strategy

I. Pacific Remote Island Coalition Proposal for Monument Expansion

J. Discussion and Recommendations

4. AP Plan and Working Group Reports

A. Smart Fish Aggregation Device (FAD) Working Group

B. Marine Planning Working Group

5. Annual Report of Hawaii AP Activities

A. 2022 Program and Activities

B. End of Term/AP Solicitation

6. Feedback From the Fleet

A. Hawaii Fishermen Observations

B. Advisory Panel Issues

7. Public Comment

8. Discussion and Recommendations

9. Other Business

Special Accommodations

The meeting is accessible to people with disabilities. Requests for sign language interpretation or other auxiliary aids should be directed to Kitty M. Simonds, (808) 522-8220 (voice) or (808) 522-8226 (fax), at least 5 days prior to the meeting date.

Authority: 16 U.S.C. 1801 et seq.

Dated: August 2, 2022.
Rey Israel Marquez,
Acting Deputy Director, Office of Sustainable Fisheries, National Marine Fisheries Service.

[FR Doc. 2022-16834 Filed 8-4-22; 8:45 am]

BILLING CODE 3510-22-P